SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, New Executive Building, Room 10235, 725 17th St., NW., Washington, DC 20503, Fax: 202-395-6974.

(SSA), Social Security Administration, DCFAM, Attn: Reports Clearance Officer, 1333 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Application for Mother's or Father's Insurance Benefits—20 CFR 404.339-404.342, 20 CFR 404.601-404.603—0960-0003. SSA collects the information on the SSA-5-F6 to entitle an individual to his/her mother's and father's insurance benefits. The respondents are individuals who apply for entitlement to their mothers' or fathers' benefits.

Type of Request: Revision of an OMB-approved information collection.

Number of Respondents: 50,000.

Frequency of Response: 1.

Average Burden Per Response: 15 minutes.

Estimated Annual Burden: 12,500 hours.

2. Missing and Discrepant Wage Reports Letter and Questionnaire—26 CFR 31.6051-2—0960-0432. Each year employers report the wage amounts they paid their employees to IRS for tax purposes, and, separately, to SSA for retirement and disability coverage purposes. These amounts should be the same, however, each year many employer wage reports received by SSA are less than those reported to IRS. Through Forms SSA-L93, 95, and 97, SSA attempts to reconcile the amounts to ensure employees receive full credit. The respondents are employers who reported less wage amounts to SSA than they did to IRS.

Type of Request: Extension of an OMB-approved information collection.

Number of Respondents: 359,999.

Frequency of Response: 1.

Average Burden Per Response: 30 minutes.

Estimated Annual Burden: 180,000 hours.

3. Information Collection Requirements for Title VIII of the Social Security Act—20 CFR 408.202(d), 408.210, 408.230(a), 408.232(a), 408.320, 408.305, 408.310, 408.315, 408.340, 408.345, 408.351(d) and (f), 408.355(a), 408.360(a), 408.404(c), 408.410, 408.412, 408.420(a) and (b), 408.430, 408.432, 408.435(a) and (b), 408.437(b), (c) and (d)—0960-0658. Section 251 of the “Foster Care Independence Act of 1999” added Title VIII to the Social Security Act (Special Benefits for Certain World War II Veterans). Title VIII allows, under certain circumstances, the payment of a monthly benefit by the Commissioner of Social Security to a qualified World War II veteran who resides outside the United States. The accompanying regulations set out the requirements an individual must meet in order to qualify for and become entitled to Special Veterans Benefits (SVB). The respondents are individuals who are applying for benefits under Title VIII of the Social Security Act.

Type of Request: Extension of an OMB-approved information collection.

Number of Respondents: 762.

Frequency of Response: 1.

Average Burden Per Response: 30 minutes.

Estimated Annual Burden: 381 hours.

4. Application for Supplemental Security Income—20 CFR 416.305-416.335—0960-0444. The information collected on the SSA-8001-BK is needed and used to determine eligibility for Supplemental Security Income (SSI), and the amount of SSI benefits payable to the applicant. Respondents are applicants for SSI benefits.

Type of Request: Revision of an OMB-approved information collection.

| Number of respondents | Frequency of response | Average burden per response (minutes) | Estimated annual burden (hours)
Paper Form | 34,643 | 1 | 19 | 10,970
Electronic Form (MSSICS) | 1,120,117 | 1 | 16 | 298,698
Total Annual Burden: | 1,154,760 |  |  | 309,668

5. Marital Relationship Questionnaire—20 CFR 416.1826—0960-0460. Form SSA-4178 provides a nationally uniform vehicle for collection of information to determine for Supplemental Security Income (SSI) purposes whether unrelated individuals of the opposite sex who live together are holding themselves out to the public as husband and wife. The information is necessary to determine whether correct payment is being made to SSI couples and individuals. The respondents are applicants for, and recipients of, SSI benefits.

Type of Request: Extension of an OMB-approved information collection.

Number of Respondents: 5,100.

Frequency of Response: 1.

Average Burden Per Response: 5 minutes.

Estimated Annual Burden: 425 hours.

6. Public Information Campaign—0960-0544. SSA sends public information materials (e.g.: public service announcements, news releases, educational tapes) to public broadcasting systems so these media sources can inform the general public about the Agency's various programs and activities. To track media usage of these materials, SSA conducts the Public Information Campaign, a bi-annual solicitation of feedback from the target public media sources via business reply cards. The respondents are public broadcasting systems who are sent information about various SSA programs to disseminate to the public.

Type of Request: Extension of an OMB-approved information collection.

Number of Respondents: 8,000.

Frequency of Response: 2.

Average Burden Per Response: 1 minute.

Estimated Annual Burden: 267 hours.

7. Application for a Social Security Card—20 CFR 422.103-.110—0960-0066. Forms SS-5 (used in the United States) and SS-5-FS (used outside the United States) are used to apply for original and replacement Social Security cards. Changes are being made to these forms to reflect new statutory limits on the number of allowable replacement cards. The respondents are requestors of new or replacement Social Security cards.

Type of Request: Revision of an OMB-approved information collection.

Number of Respondents: 13,600,000.

Frequency of Response: 1.

Average Burden Per Response: 9 minutes.

Estimated Annual Burden: 2,040,000 hours.

8. Private Printing and Modification of Prescribed Applications and Other Forms—20 CFR 422.527—0960-0663. This regulation mandates that non-government persons or organizations who wish to reproduce, duplicate, or privately print any application or other form owned by SSA must receive written authorization from the Agency to do so. Moreover, these persons or organizations may not charge the public a fee for any SSA applications, forms, or publications unless authorized by SSA under the circumstances described in these regulations. The respondents are private persons or groups who wish to reproduce, duplicate, privately print, or charge a fee for an SSA application, form, or publication.

Type of Request: Extension of an OMB-approved information collection.

Number of Respondents: 9.

Frequency of Response: 36.

Average Burden Per Response: 8 minutes.

Estimated Annual Burden: 43 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Credit Card Payment Acknowledgement Form—0960-0648. SSA will use the information collected on Form SSA-1414 to process payments from former employees and vendors who have outstanding debts owed to the agency. This form has been developed as a convenient method for respondents to satisfy such debts. The respondents are former employees and vendors who have debts still owed to the agency.

Type of Request: Extension of an OMB-approved information collection.

Number of Respondents: 500.

Frequency of Response: 12.

Average Burden Per Response: 5 minutes.

Estimated Annual Burden: 500 hours.

Dated: October 3, 2005.
Elizabeth A. Davidson,
Reports Clearance Officer, Social Security Administration.

[FR Doc. 05-20158 Filed 10-6-05; 8:45 am]

BILLING CODE 4191-02-P